DEPARTMENT OF AGRICULTURE

Foreign Agricultural Service

Trade Adjustment Assistance for Farmers

AGENCY: Foreign Agricultural Service, USDA.

ACTION: Notice.

SUMMARY: The Administrator, Foreign Agricultural Service (FAS), today accepted a petition filed by the Olive Growers Council (Council) of California, Visalia, California, for trade adjustment assistance. The petitioner represents producers of olives in California. The Council has requested a public hearing to review the merits of the petition, which will be held in Room 5066-S, South Agricultural Building, Washington, DC, on December 10, 2003, at 11 A.M. ET.

SUPPLEMENTARY INFORMATION: The petition maintains that during August 1, 2001, through July 31, 2002, increasing imports of olives in a saline solution contributed importantly to a decline in domestic producer prices by more than 20 percent. To support their contention, the Council submitted price data from the National Agricultural Statistics Service. Having accepted this petition, the Administrator has 40 days to determine whether or not producers represented by the Council are eligible for trade adjustment assistance. If the determination is positive, they will be eligible to apply to the Farm Service Agency for technical assistance at no cost and adjustment assistance payments.

FOR FURTHER INFORMATION CONTACT: Jean-Louis Pajot, Coordinator, Trade Adjustment Assistance for Farmers, FAS, USDA, (202) 720-2916, e-mail: trade.adjustment@fas.usda.gov.

Dated: November 14, 2003.
A. Ellen Terpstra,
Administrator, Foreign Agricultural Service.

[FR Doc. 03-29399 Filed 12-2-03; 8:45 am]

BILLING CODE 3410-10-M